DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: October 9, 2014.
Roy E. Wright,
Deputy Associate Administrator for Mitigation, Department of Homeland Security, Federal Emergency Management Agency.

State and county | Location and case No. | Chief executive officer of community | Community map repository | Effective date of modification | Community No.
Arizona: Maricopa (FEMA Docket No.: B-1414) | Unincorporated Areas of Maricopa County (13-09-2729P) | Mr. Tom Manos, Maricopa County Manager, 301 West Jefferson Street, 10th floor, Phoenix, AZ 85003 | 2801 West Durango Street, Phoenix, AZ 85009 | June 27, 2014 | 040037
Connecticut:
Fairfield (FEMA Docket No.: B-1414) | City of Bridgeport (14-01-1231P) | The Honorable Bill Finch, Mayor, City of Bridgeport, 999 Broad Street, Bridgeport, CT 06604 | 45 Lyon Terrace, Room 216, Bridgeport, CT 06604 | July 18, 2014 | 090002
Fairfield (FEMA Docket No.: B-1414) | Town of Darien (13-01-2598P) | The Honorable Jayme J. Stevenson, First Selectman, Town of Darien, 2 Renshaw Road, Darien, CT 06820 | 2 Renshaw Road, Darien, CT 06820 | September 9, 2014 | 090005
Fairfield (FEMA Docket No.: B-1414) | Town of Darien (13-01-2599P) | The Honorable Jamie J. Stevenson, First Selectman, Town of Darien, 2 Renshaw Road, Darien, CT 06820 | 2 Renshaw Road, Darien, CT 06820 | August 21, 2014 | 090005
Fairfield (FEMA Docket No.: B-1414) | Town of Wilton (14-01-0210P) | The Honorable William F. Brennan, First Selectman, Town of Wilton, 238 Danbury Road, Wilton, CT 06897 | 238 Danbury Road, Wilton, CT 06897 | September 12, 2014 | 090020
Florida: Nassau (FEMA Docket No.: B-1414) | Unincorporated Areas of Nassau County (14-04-0416P) | The Honorable Barry V. Holloway, Nassau County Chairman, 96135 Nassau Place, Suite 1, Yulee, FL 32097 | 96161 Nassau Place, Yulee Florida, 32097 | August 1, 2014 | 120170
Idaho:
Ada (FEMA Docket No.: B-1414) | City of Boise (13-10-1536P) | The Honorable David Bieter, Mayor, City of Boise, P.O. Box 500, Boise, ID 83701 | 150 North Capitol Boulevard, 2nd Floor, Boise, ID 83701 | September 5, 2014 | 160002
Bonneville (FEMA Docket No.: B-1414) | City of Ammon (14-10-0057P) | The Honorable Steve Fuhriman, Mayor, City of Ammon, 2135 South Ammon Road, Ammon, ID 83406 | Ammon City Hall, 2135 South Ammon Road, Ammon, ID 83406 | September 5, 2014 | 160028
Bonneville (FEMA Docket No.: B-1414) | Unincorporated Areas of Bonneville County (14-10-0057P) | The Honorable Roger Christensen, Commissioner, Bonneville County, 605 North Capital Avenue, Idaho Falls, ID 83402 | 605 North Capitol Avenue, Idaho Falls, ID 83402 | September 5, 2014 | 160027
Illinois:
Cook (FEMA Docket No.: B-1414) | Village of Hoffman Estates (12-05-7136P) | The Honorable William D. McLeod, Mayor, Village of Hoffman Estates, 1900 Hassell Road, Hoffman Estates, IL 60169 | Village Hall, 1900 Hassell Road, Hoffman Estates, IL 60169 | August 19, 2014 | 170107
Cook (FEMA Docket No.: B-1414) | Village of Schaumburg (12-05-7136P) | The Honorable Alan L. Larson, Mayor, Village of Schaumburg, 101 Schaumburg Court, Schaumburg, IL 60193 | Department of Engineering and Public Works, 101 Schaumburg Court, IL 60193 | August 19, 2014 | 170158
Douglas (FEMA Docket No.: B-1414) | Unincorporated Areas of Douglas County (14-05-0294P) | The Honorable Charles Knox, Douglas County Chairman, 401 South Center Street, Tuscola, IL 61953 | 401 South Center Street, Tuscola, IL 61953 | August 21, 2014 | 170194
Douglas and Moultrie (FEMA Docket No.: B-1414) | Village of Arthur (14-05-0294P) | The Honorable Matt Bernius, Village Board President, Village of Arthur, 120 East Progress Street, Arthur, IL 61911 | 120 East Progress Street, Arthur, IL 61911 | August 21, 2014 | 170520
DuPage (FEMA Docket No.: B-1414) | Unincorporated Areas of DuPage County (13-05-3690P) | The Honorable Dan Cronin, Chairman, DuPage County, 421 North County Farm Road, Wheaton, IL 60187 | DuPage County Courthouse, 421 North County Farm Road, Wheaton, IL 60187 | September 2, 2014 | 170197
DuPage (FEMA Docket No.: B-1414) | Village of Lisle (13-05-3690P) | The Honorable Joseph Broda, Mayor, Village of Lisle, 925 Burlington Avenue, Lisle, IL 60532 | Village Hall, 925 Burlington Avenue, Lisle, IL 60532 | September 2, 2014 | 170211
Kane (FEMA Docket No.: B-1414) | City of Elgin (13-05-7606P) | The Honorable David Kaptain, Mayor, City of Elgin, 150 Dexter Court, Elgin, IL 60120 | Department of Public Works, Engineering Department, 150 Dexter Court, Elgin, IL 60120 | July 22, 2014 | 170087
Kane (FEMA Docket No.: B-1414) | Unincorporated Areas of Kane County (13-05-7606P) | The Honorable Christopher Lauzen, Kane County Chairman, 719 Batavia Avenue, Building A, Geneva, IL 60134 | Water Resources Department, 719 Batavia Avenue, Building A, Geneva, IL 60134 | July 22, 2014 | 170896
Lake (FEMA Docket No.: B-1414) | Village of Lake Zurich (14-05-3049P) | The Honorable Thomas Poynton, Mayor, Village of Lake Zurich, 70 East Main Street, Lake Zurich, IL 60047 | Village Hall, 70 East Main Street, Lake Zurich, IL 60047 | August 29, 2014 | 170376
Moultrie (FEMA Docket No.: B-1414) | Unincorporated Areas of Moultrie County (14-05-0294P) | The Honorable David McCabe, Moultrie County Chairman, 10 South Main Street, Sullivan, IL 61951 | Planning and Zoning Department, 10 South Main Street, Suite 1, Sullivan, IL 61951 | August 21, 2014 | 170998
Williamson (FEMA Docket No.: B-1414) | City of Herrin (13-05-6622P) | The Honorable Victor M. Ritter, Mayor, City of Herrin, 300 North Park Avenue, Herrin, IL 62948 | 300 North Park Avenue, Herrin, IL 62948 | June 20, 2014 | 170717
Iowa:
Black Hawk (FEMA Docket No.: B-1414) | City of Waterloo (13-07-1693P) | The Honorable Buck Clark, Mayor, City of Waterloo, 715 Mulberry Street, Waterloo, IA 50703 | 715 Mulberry Street, Waterloo, IA 50703 | July 8, 2014 | 190025
Black Hawk (FEMA Docket No.: B-1414) | Unincorporated Areas of Black Hawk County (13-07-2313P) | The Honorable Craig White, Supervisor, Black Hawk County, 316 East 5th Street, Waterloo, IA 50703 | 715 Mulberry Street, Waterloo, IA 50703 | June 26, 2014 | 190535
Kansas: Wyandotte (FEMA Docket No.: B-1414) | City of Kansas City (13-07-2023P) | The Honorable Mark Holland, Mayor, City of Kansas City, 701 North 7th Street, 9th Floor, Kansas City, KS 66101 | City Hall, 701 North 7th Street, 9th Floor, Kansas City, KS 66101 | June 27, 2014 | 200363
Maine:
Androscoggin (FEMA Docket No.: B-1414) | City of Auburn (14-01-0761P) | The Honorable Jonathan P. Labonte, Mayor, City of Auburn, 60 Court Street, Auburn, ME 04210 | Auburn Hall, 60 Court Street, Auburn, ME 04210 | July 14, 2014 | 230001
Androscoggin (FEMA Docket No.: B-1414) | Town of Turner (14-01-0761P) | Mr. Angelo Terreri, Selectman, Town of Turner, 11 Turner Center Road, Turner, ME 04282 | Turner Town Office, 11 Turner Center Road, Turner, ME 04282 | July 14, 2014 | 230010
Massachusetts:
Plymouth (FEMA Docket No.: B-1414) | Town of Marion (14-01-1304P) | The Honorable Jonathan E. Dickerson, Chairman, Board of Selectman, 2 Spring Street, Marion, MA 02738 | 2 Spring Street, Marion, MA 02738 | June 6, 2014 | 255213
Worcester (FEMA Docket No.: B-1414) | Town of Berlin (14-01-1554P) | The Honorable Judith Booman, Chairman, Town of Berlin, 23 Linden Street, Berlin, MA 01503 | 23 Linden Street, Berlin, MA 01503 | July 17, 2014 | 250294
Worcester (FEMA Docket No.: B-1414) | Town of Harvard (14-01-1553P) | Mr. Timothy P. Bragan, Town Administrator, Town of Harvard, 13 Ayer Road, Harvard, MA 01451 | Town Hall, 13 Ayer Road, Harvard, MA 01451 | July 17, 2014 | 250308
Nebraska:
Lancaster (FEMA Docket No.: B-1414) | City of Lincoln (13-07-1915P) | The Honorable Chris Beutler, Mayor, City of Lincoln, 555 South 10th Street, Suite 301, Lincoln, NE 68508 | Building and Safety Department, 555 South 10th Street, Lincoln, NE 68508 | June 27, 2014 | 315273
Washington (FEMA Docket No.: B-1414) | City of Fort Calhoun (13-07-2187P) | The Honorable Mitch Robinson, Mayor, City of Fort Calhoun, 110 South 4th Street, Fort Calhoun, NE 68023 | 110 South 4th Street, Fort Calhoun, NE 68023 | July 3, 2014 | 310368
Nevada: Clark (FEMA Docket No.: B-1414) | City of North Las Vegas (14-09-0513P) | The Honorable John J. Lee, Mayor, City of North Las Vegas, 2250 North Las Vegas Boulevard, North Las Vegas, NV 89030 | 2250 North Las Vegas Boulevard, Suite 260, North Las Vegas, NV 89030 | August 12, 2014 | 320007
Ohio:
Lorain (FEMA Docket No.: B-1414) | City of Avon Lake (13-05-6724) | The Honorable Greg Zika, Mayor, City of Avon Lake, 150 Avon Belden Lake, Avon Lake, OH 44012 | 150 Avon Belden Lake, Avon Lake, OH 44012 | August 8, 2014 | 390602
Medina (FEMA Docket No.: B-1414) | City of Brunswick (14-05-2309P) | The Honorable Ron Falconi, Mayor, City of Brunswick, 4095 Center Road, Brunswick, OH 44212 | 4095 Center Road, Brunswick, OH 44212 | July 18, 2014 | 390380
Oregon:
Benton (FEMA Docket No.: B-1414) | City of Corvallis (14-10-0472P) | The Honorable Julie Manning, Mayor, City of Corvallis, 501 Southwest Madison Avenue, Corvallis, OR 97330 | 501 Southwest Madison Avenue, Corvallis, OR 97330 | July 14, 2014 | 410009
Benton (FEMA Docket No.: B-1414) | Unincorporated Areas of Benton County (14-10-0472P) | The Honorable Linda Modrell, Chair, Benton County Board of Commissioners, 205 Northwest 5th Street, Corvallis, OR 97330 | 360 Southwest Avery Avenue, Corvallis, OR 97333 | July 14, 2014 | 410008
Wisconsin: Ozaukee (FEMA Docket No.: B-1414) | Village of Thiensville (14-05-2223X) | The Honorable Karl Hertz, President, Village of Thiensville, 250 Elm Street, Thiensville, WI 53092 | 250 Elm Street, Thiensville, WI 53092 | June 26, 2014 | 550318

[FR Doc. 2014-25394 Filed 10-24-14; 8:45 am]

BILLING CODE 9110-12-P